DEPARTMENT OF THE TREASURY

Submission for OMB Review; Comment Request

June 17, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 28, 2003 to be assured of consideration.

Internal Revenue Service (IRS)

OMB Number: 1545-0162.

Form Number: IRS Form 4136.

Type of Review: Revision.

Title: Credit for Federal Tax Paid on Fuel.

Description: Internal Revenue Code section 34 allows a credit for Federal excise tax for certain fuel uses. This form is used to figure the amount of the income tax credit. The data is used to verify the validity of the claim for the type of nontaxable or exempt use.

Respondents: Business or other for-profit, Individuals or households, Not-for-profit institutions, Farms.

Estimated Number of Respondents/Recordkeepers: 1,828,759.

Estimated Burden Hours Per Respondent/Recordkeeper:

Recordkeeping 19 hr.,—46 min.

Learning about the law or the form—6 min.

Preparing and sending the form to the IRS—20 min.

Frequency of Response: Annually.

Estimated Total Reporting/Recordkeeping Burden: 5,806,890 hours.

OMB Number: 1545-1541.

Revenue Procedure Number: Revenue Procedure 97-27.

Type of Review: Revision.

Title: Changes in Methods of Accounting.

Description: The information requested in sections 6, 8, and 13 of Revenue Procedure 97-27 is required in order for the Commissioner to determine whether the taxpayer is properly requesting to change its method of accounting and the terms and condition of that change.

Respondents: Business or other for-profit, Individuals or households, Not-for-profit institutions, Farms.

Estimated Number of Respondents: 3,000.

Estimated Burden Hours Per Respondent: 3 hours, 1 minute.

Frequency of Response: On occasion.

Estimated Total Reporting Burden: 9,083 hours.

OMB Number: 1545-1801.

Revenue Procedure Number: Revenue Procedure 2002-67.

Type of Review: Extension.

Title: Settlement of Section 351 Contingent Liability Tax Shelter Cases.

Description: This revenue procedure prescribes procedures for taxpayers who elect to participate in a settlement initiative aimed at resolving tax shelter cases involving contingent liability transactions that are the same or similar to those described in Notice 2001-17 (“contingent liability transaction”). There are two resolution methodologies: a fixed concession procedure and a fast track dispute resolution procedure that includes binding arbitration.

Respondents: Business or other for-profit, Individuals or households.

Estimated Number of Respondents: 150.

Estimated Burden Hours Per Respondent: 50 hours.

Frequency of Response: Other (one-time).

Estimated Total Reporting Burden: 7,500 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 03-16119 Filed 6-25-03; 8:45 am]

BILLING CODE 4830-01-P